DEPARTMENT OF HEALTH AND HUMAN SERVICES

Centers for Disease Control and Prevention

[Program Announcement AA046]

Pioneering Healthy Communities; Notice of Intent To Fund Single Eligibility Award

A. Purpose

The Centers for Disease Control and Prevention (CDC) announces the intent to fund fiscal year (FY) 2005 funds for a cooperative agreement program to expand the community health promotion leadership and enhance the capacity of the Young Men's Christian Association (YMCA) of the USA trainers, staff and volunteers. The successful implementation of the program will result in the effective integration of public health practice in communities and community institutions to increase the quality, availability, and effectiveness of educational and community-based programs designed to prevent disease, improve health and quality of life, embrace diversity, connect people and resources, and create a sense of community. This program addresses the “Healthy People 2010” focus area 7, Educational and Community-Based Programs.

The Catalog of Federal Domestic Assistance number for this program is 93.283.

B. Eligible Applicant

Assistance will be provided only to the YMCA of the USA. The FY 2005 Departments of Labor, Health and Human Services, and Education, and Related Agencies Appropriations Bill, Senate Report No. 108-345 recognized the unique work of the YMCA of the USA through its Pioneering Healthier Communities initiative and directed CDC to provide funding to the organization to implement their Healthier Communities action plan. For over 150 years, YMCAs have developed initiatives and programs that have helped improve the physical, social, emotional, and spiritual health for millions of Americans in diverse communities across the country. The health benefits from YMCA's health and wellness programs are a critical part of the nation's efforts to arrest the epidemic of chronic diseases.

Pioneering Healthier Communities is a key component of a broad YMCA initiative with the goal of improving the health and wellness of all Americans. Through this initiative, YMCAs will partner with community members to lead change in their communities by building coalitions and strategies to battle the epidemics of chronic disease and obesity, as well as the associated rise factors of physical inactivity and poor nutrition.

C. Funding

Approximately $1,400,382 is available in FY 2005 to fund this award. It is expected that the award will begin on or before August 31, 2005, and will be made for a 12-month budget period within a project period of up to 3 years. Funding estimates may change.

D. Where To Obtain Additional Information

For general comments or questions about this announcement, contact: Technical Information Management, CDC Procurement and Grants Office, 2920 Brandywine Road, Atlanta, GA 30341-4146, Telephone: 770-488-2700.

For technical questions about this program, contact: Michael Sells, Project Officer 4770 Buford Highway, Mailstop K-30, Atlanta, GA 30341, Telephone: 770-488-5465, E-mail: msells@cdc.gov.

Dated: July 6, 2005.
William P. Nichols,
Director, Procurement and Grants Office, Centers for Disease Control and Prevention.

[FR Doc. 05-13623 Filed 7-11-05; 8:45 am]

BILLING CODE 4163-18-P